FEDERAL MARITIME COMMISSION

Ocean Transportation Intermediary License Applicants

Notice is hereby given that the following applicants have filed with the Federal Maritime Commission an application for license as a non-vessel operating common carrier and ocean freight forwarder—ocean transportation intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

A.C.T. Logistics, Inc., 147-39 175th Street, Rm. #217, Jamaica, NY 11434. Officer: Annie Chik, President, (Qualifying Individual).

Concord Express, Inc., 5500 W. Rosecrans Avenue, Hawthorne, CA 90250. Officers: William Wu, Secretary, (Qualifying Individual), Joseph Chang, Chairman.

Kase Logistics, Inc., 6280 Manchester Blvd., Suite #117, Buena Park, CA 90621. Officers: Kun Kai Chang, President, (Qualifying Individual), Louis Suen, Director.

Speedway Freight Services, Inc., 167-43 148th Avenue 2nd Floor, Jamaica, NY 11434. Officer: Woong Chol Kang, President, (Qualifying Individual).

Bestway Logistics Inc., 1611 W. Rosecrans Avenue, Gardena, CA 90249. Officer: Shine Daniel Lee, President, (Qualifying Individual).

J & B Logistics, Inc., 500 Carson Plaza Drive, #109, Carson, CA 90746. Officer: OK B. Park, President, (Qualifying Individual).

Non-Vessel Operating Common Carrier and Ocean Freight Forwarder Transportation Intermediary Applicants

Alliance Overseas Shipping Inc., 326 Troy Avenue, Brooklyn, NY 11213. Officer: James Hubert, President, (Qualifying Individual).

Bahaghari, LLC dba DL Lawin Cargo, dba Bahaghari Express Cargo, 102 Route 66, Suite D, Glendora, CA 91740. Officers: Leandro R. Dinglasan, President, (Qualifying Individual), Elizabeth Z. Dinglasan, Vice President.

Louisiana Forwarder, 2440 Veterans Blvd., Suite K, Kenner, LA 70062. Officers: Alba L. Labrano, Partner, (Qualifying Individual), Carlos H. Sanchez, Partner.

Hansen Shipping, LLC, 223 Winnona Drive, Decatur, GA 30030. Officers: Peter Aaro-Hansen, President, (Qualifying Individual).

International Freight Logistics LLC, 8820 South Sepulveda Blvd., Suite 221B, Los Angeles, CA 90045. Officers: Clemencia T. Hilvano, President, (Qualifying Individual), Alejandro Labendia, Vice President.

Washington Movers, Inc., 8210 Cinderbed Road, Lorton, VA 22029. Officer: Sam R. Ghanem, President, (Qualifying Individual).

Continental Logistic Service Inc., 325 W. 131st Street, Los Angeles, CA 90061. Officer: Cindy H. Shin, President, (Qualifying Individual).

Dated: March 3, 2003.
Bryant L. VanBrakle,
Secretary.

[FR Doc. 03-5345 Filed 3-6-03; 8:45 am]

BILLING CODE 6730-01-P